DEPARTMENT OF LABOR

Employment and Training Administration

[TA-W-41,469 and TA-W-41,469A]

Telect, Liberty Lake, Washington, Including Employees of Telect Located in Illinois; Amended Certification Regarding Eligibility To Apply for Worker Adjustment Assistance

In accordance with section 223 of the Trade Act of 1974 (19 U.S.C. 2273) the Department of Labor issued a Certification of Eligibility to Apply for Worker Adjustment Assistance on August 19, 2002, applicable to workers of Telect, Liberty Lake, Washington. The notice was published in the Federal Register on September 10, 2002 (67 FR 57453).

At the request of the State agency, the Department reviewed the certification for workers of the subject firm. New information shows that worker separations occurred involving employees of the Liberty Lake, Washington facility of Telect located in Illinois. These employees provided sales function services for the production of fiber optic patchcords and pigtails at the Liberty Lake, Washington location of the subject firm.

The intent of the Department's certification is to include all workers of Telect who were adversely affected by increased imports.

The amended notice applicable to TA-W-41,469 is hereby issued as follows:

All workers of Telect, Liberty Lake, Washington (TA-W-41,469), including employees of Telect, Liberty Lake, Washington, located in Illinois (TA-W-41,469A), who became totally or partially separated from employment on or after April 16, 2001, through August 19, 2004, are eligible to apply for adjustment assistance under Section 223 of the Trade Act of 1974.

Signed at Washington, DC, this 18th day of December, 2002.
Linda G. Poole,
Certifying Officer, Division of Trade Adjustment Assistance.

[FR Doc. 03-808 Filed 1-14-03; 8:45 am]

BILLING CODE 4510-30-P